ENVIRONMENTAL PROTECTION AGENCY

40 CFR Parts 72, 75, 78, and 97

[FRL-7019-4]

RIN 2060-AJ43

Revisions to the Federal NOX Budget Trading Program, the Emissions Monitoring Provisions, the Permits Regulation Provisions, and the Appeal Procedures; Extension of Comment Period

AGENCY: Environmental Protection Agency (EPA).

ACTION: Proposed rule; extension of comment period.

SUMMARY: The Environmental Protection Agency published a proposed rule in the Federal Register on June 13, 2001 at (66 FR 31978) on “Revisions to the Federal NOX Budget Trading Program, the Emissions Monitoring Provisions, the Permits Regulation Provisions, and the Appeal Procedures” which provided a 45-day comment period, which expires on July 30, 2001. The EPA has received a request to extend the comment period for this proposed rule for 21 days. The EPA is today extending the comment period for the Revisions to the Federal NOX Budget Trading Program, the Emissions Monitoring Provisions, the Permits Regulation Provisions, and the Appeal Procedures for 21 days until August 20, 2001.

DATES: Comments must be submitted by August 20, 2001.

ADDRESSES: Comments. Comments must be mailed (in duplicate if possible) to: EPA Air Docket (6102), Attention: Docket No. A-2000-33, Room—1500, Waterside Mall, 401 M Street, SW., Washington, DC 20460. Docket. Docket No. A-2000-33, containing supporting information used to develop the proposal, is available for public inspection and copying from 8:00 a.m. to 5:30 p.m., Monday through Friday, excluding legal holidays, at EPA's Air Docket Section at the above address.

FOR FURTHER INFORMATION CONTACT: Gabrielle Stevens, Clean Air Markets Division (6204N), U.S. Environmental Protection Agency, Ariel Rios Building, 1200 Pennsylvania Avenue, NW., Washington, DC 20460, telephone number (202) 564-2681 or the Acid Rain Hotline at (202) 564-9620. Electronic copies of the proposed rulemaking document and technical support documents can be accessed through the EPA Web site at: http:// www.epa.gov/airmarkets.

Dated: July 23, 2001.
Brian J. McLean,
Director, Clean Air Markets Division/Office of Atmospheric Programs, Environmental Protection Agency.

[FR Doc. 01-18820 Filed 7-26-01; 8:45 am]

BILLING CODE 6560-50-P